DEPARTMENT OF VETERANS AFFAIRS

Notice of Intent To Grant an Exclusive License

AGENCY: Department of Veterans Affairs, Office of Research and Development.

ACTION: Notice of intent.

SUMMARY: Notice is hereby given that the Department of Veterans Affairs, Office of Research and Development, intends to grant to Marine Polymer Technologies, Inc., 102 Water Street, Danvers, MA 01923-3727 USA an exclusive license to practice U.S. Patent Application Serial No.10/257,176 filed October 10, 2002, entitled “Compositions and Methods for Tissue Preservation” and U.S. Patent Application Serial No. 09/546,860 issuing as U.S. Patent 6,569,615 B1, entitled “Compositions and Methods for Tissue Preservation”.

DATES: Comments must be received within fifteen (15) days from the date of this published Notice.

ADDRESSES: Send comments to: Robert W. Potts, Director of Technology Transfer, Department of Veterans Affairs, Office of Research and Development Attn: 12TT, 810 Vermont Avenue NW., Washington, DC 20420. Telephone: (202) 254-0260; Facsimile: (202) 254-0473; e-mail: bob.potts@hq.mail.va.gov.

FOR FURTHER INFORMATION CONTACT: Copies of the published patent applications may be obtained from the U.S. Patent and Trademark Office at http://www.uspto.gov.

SUPPLEMENTARY INFORMATION: It is in the public interest to so license this invention as Marine Polymer Technologies, Inc., submitted a complete and sufficient application for a license. The prospective exclusive license will be royalty-bearing and will comply with the terms and conditions of 35 U.S.C. 209 and 37 CFR 404.7. The prospective exclusive license may be granted unless, within fifteen (15) days from the date of this published Notice, the Department of Veterans Affairs Office of Research and Development receives written evidence and argument which establishes that the grant of the license would not be consistent with the requirements of 35 U.S.C. 209 and 37 CFR 404.7.

Approved: January 31, 2005.
Anthony J. Principi,
Secretary, Department of Veterans Affairs.

[FR Doc. 05-2536 Filed 2-8-05; 8:45 am]

BILLING CODE 8320-01-P